DEPARTMENT OF ENERGY

Federal Energy Regulatory Commission

[Docket No. RP03-589-002]

Iroquois Gas Transmission System, L.P.; Notice of Refund Report

August 18, 2004.

Take notice that on August 16 2004, Iroquois Gas Transmission System, L.P. (Iroquois) tendered for filing its Transportation Cost Rate Adjustment (TCRA) refund report.

In accordance with the terms of its Stipulation and Agreement that was approved by the Commission on October 24, 2003, Iroquois proposed the elimination of its TCRA. In that filing, Iroquois noted that it would calculate the amount of any net credit or debit balance in the applicable Account No. 186 sub-account and would allocate such balance to the affected shippers in proportion to their applicable billing determinants during the preceding twelve months.

Iroquois states that copies of its filing were served on all jurisdictional customers and interested state regulatory agencies and all parties to the proceeding.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on August 25, 2004.

Linda Mitry,
Acting Secretary.

[FR Doc. E4-1906 Filed 8-24-04; 8:45 am]

BILLING CODE 6717-01-P